DEPARTMENT OF HEALTH AND HUMAN SERVICES

National Institutes of Health

Proposed Collection; Comment Request; Leukemia and Other Hematological Diseases Among Cleanup Workers in Ukraine Following the Chornobyl Accident

SUMMARY: In compliance with the requirement of Section 3506(c)(2)(A) of the Paperwork Reduction Act of 1995, for opportunity for public comment on proposed data collection projects, the National Cancer Institute, the National Institutes of Health (NIH) will publish periodic summaries of proposed projects to be submitted to the Office of Management and Budget (OMB) for review and approval.

Proposed Collection

Title: Leukemia and Other Hematological Diseases Among Cleanup Workers in Ukraine Following the Chornobyl Accident. Type of Information Collection Request: New. Need and Use of Information Collection: A case-control study will be conducted to investigate the risk of radiation-induced leukemia and other hematological diseases among Chernobyl cleanup workers in Ukraine. Cases and controls (or proxies) will be interviewed to provide details of their work during the Chornobyl clean-up operation. The interview responses combined with environmental measurements will permit individual bone marrow dose estimates to be calculated for each case and control. Dose estimates will be used to calculate the risk of leukemia and other hematological diseases associated with low-dose and low dose-rate radiation exposure. This information, which is essential for radiation protection, is currently not available and standards presently are based on information available only by extrapolation from high-dose, high dose-rate data on A-bomb survivors in Japan. Frequency of Response: One time only. Affected Public: Ukrainian Chornobyl clean-up workers. Type of respondents: Cases, controls, and proxies for deceased subject. Estimated Number of Respondents: 700. Estimated Number of Responses per Respondent: Variable, about 50. Average Burden Hours Per Response: 0.75 hour. Estimated Total Annual Burden Hours Requested: 400 hours (interviews to be conducted over 18-month period). There are no Capital Costs, Operating Costs, and/or Maintenance Costs to report.

Request for Comments

Written comments and/or suggestions from the public and affected agencies are invited on one or more of the following points: (1) Evaluate whether the proposed collectionof information is necessary for the proper performance of the National Cancer Institute, including whether the information will have practical utility; (2) evaluate the accuracy of the NCI's estimate of the burden of the proposed collection of information, including the validity of the methodology and assumptions used; (3) enhance the enhance the quality utility, and clarity of the information to be collected; (4) minimize the burden of the collection of information on those who are to respond, including the use of appropriate automated, electronic, mechanical, or other technological collection techniques or other forms of information technology.

FOR FURTHER INFORMATION CONTACT: To request more information on the proposed project or to obtain a copy of the data collection plans and instruments, contact Dr. Terry L. Thomas, National Cancer Institute, EPS 7100, 6120 Executive Boulevard, Rockville, MD, 29892-7238, or call the non-toll-free number (301) 496-6600.

Comments Due Date: Comments regarding this information collection are best assured of having their full effect if received on or before July 30, 2001.

Dated: May 16, 2001.
Reesa Nichols,
NCI Project Clearance Liaison.

[FR Doc. 01-13484 Filed 5-29-01; 8:45 am]

BILLING CODE 4140-01-M